ENVIRONMENTAL PROTECTION AGENCY

40 CFR Part 63

[Docket Number [EPA-HQ-OAR-2013-0495; FRL 9905-61-OAR]

Standards of Performance for Greenhouse Gas Emissions for New Stationary Sources: Electric Utility Generating Units

AGENCY: Environmental Protection Agency (EPA).

ACTION: Proposed rule; Notice of public hearing.

SUMMARY: The Environmental Protection Agency (EPA) published in the Federal Register on January 8, 2014, the proposed rule, “Standards of Performance for Greenhouse Gas Emissions for New Stationary Sources: Electric Utility Generating Units.” The EPA is announcing a change in the date for the public hearing to be held for the proposed Standards of Performance for Greenhouse Gas Emissions for New Stationary Sources: Electric Utility Generating Units.

DATES: The public hearing will be held on February 6, 2014.

ADDRESSES: The public hearing will be held on February 6, 2014, at the William Jefferson Clinton East Building, Room 1153 (Map Room), 1201 Constitution Avenue NW., Washington, DC 20004. The hearing will convene at 9:00 a.m. (Eastern Standard Time) and end at 8:00 p.m. (Eastern Standard Time).

A lunch break is scheduled from 12:00 p.m. until 1:00 p.m. and a dinner break is scheduled from 5:00 p.m. until 6:00 p.m. The EPA will make every effort to accommodate all speakers. The EPA's Web site for the rulemaking, which includes the proposal and information about the hearing, can be found at: http://epa.gov/carbonpollutionstandard/.

FOR FURTHER INFORMATION CONTACT: If you would like to present oral testimony at the public hearing, please contact Ms. Pamela Garrett, U.S. Environmental Protection Agency, Office of Air Quality Planning and Standards, Sector Policies and Programs Division (D243-01), Research Triangle Park, North Carolina 27711; telephone: (919) 541-7966; fax number: (919) 541-5450; email address: garrett.pamela@epa.gov (preferred method for registering). The last day to register to present oral testimony in advance will be Tuesday, February 4, 2014. If using email, please provide the following information: the time you wish to speak (morning, afternoon or evening), name, affiliation, address, email address and telephone and fax numbers. Time slot preferences will be given in the order requests are received. Additionally, requests to speak will be taken the day of the hearing at the hearing registration desk, although preferences on speaking times may not be able to be fulfilled. If you require the service of a translator, please let us know at the time of registration.

Questions concerning the rule that was published in the Federal Register on January 8, 2014, should be addressed to Mr. Christian Fellner, Office of Air Quality Planning and Standards, Sector Policies and Programs Division (D 243-04), Environmental Protection Agency, Research Triangle Park, North Carolina 27711; telephone number: (919) 541-4003; facsimile number: (919) 541-5450; email address: fellner.christian@epa.gov.

Public hearing: The proposal for which the EPA is holding the public hearing was published in the Federal Register on January 8, 2014, and is available at: http://www.epa.gov/carbonpollutionstandard/ and also in the docket identified below. The public hearing will provide interested parties the opportunity to present oral comments regarding the EPA's proposed standards, including data, views or arguments concerning the proposal. The EPA may ask clarifying questions during the oral presentations, but will not respond to the presentations at that time. Written statements and supporting information submitted during the comment period will be considered with the same weight as any oral comments and supporting information presented at the public hearing.

Commenters should notify Ms. Garrett if they will need specific equipment or if there are other special needs related to providing comments at the public hearing. The EPA will provide equipment for commenters to make computerized slide presentations if we receive special requests in advance. Oral testimony will be limited to 5 minutes for each commenter. The EPA encourages commenters to submit to the docket a copy of their oral testimony electronically (via email or CD) or in hard copy form.

The public hearing schedule, including lists of speakers, will be posted on the EPA's Web site at: http://www.epa.gov/carbonpollutionstandard/. Verbatim transcripts of the hearing and written statements will be included in the docket for the rulemaking. The EPA will make every effort to follow the schedule as closely as possible on the day of the hearing; however, please plan for the hearing to run either ahead of schedule or behind schedule.

How can I get copies of this document and other related information?

The EPA has established a docket for the proposed rule, “Standards of Performance for Greenhouse Gas Emissions for New Stationary Sources: Electric Utility Generating Units” under Docket ID No. EPA-HQ-OAR-2013-0495, available at www.regulations.gov.

List of Subjects in 40 CFR Part 63

Environmental protection, Administrative practice and procedure, Air pollution control, Hazardous substances, Intergovernmental relations, Reporting and recordkeeping requirements.

Dated: January 14, 2014.
Mary E. Henigin,
Acting Director, Office of Air Quality Planning and Standards.

[FR Doc. 2014-01065 Filed 1-21-14; 8:45 am]

BILLING CODE 6560-50-P